FEDERAL RESERVE SYSTEM

Change in Bank Control Notices; Acquisition of Shares of Bank or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 181(j)(7)).

The notices are available for immediate inspection at the Federal Reserve bank indicated. The notices also will be available for inspection at the office of the Board of Governors. Interested persons may express their views in writing to the Reserve Bank indicated for that notice or to the offices of the Board of Governors. Comments must be received not later than February 22, 2001.

A. Federal Reserve Bank of Atlanta (Cynthia C. Goodwin, Vice President) 104 Marietta Street, NW., Atlanta, Georgia 30303-2713:

1. Donald Howard Kay, Jr.; Martha Andrews Kay; Kyle Andrews Kay; and Rance Howard Kay, all of Ocala, Florida, to retain voting shares of ONB Financial Services, Inc., Ocala, Florida, and thereby indirectly retain voting shares of Ocala National Bank, Ocala, Florida.

B. Federal Reserve Bank of Kansas City (D. Michael Manies, Assistant Vice President) 925 Grand Avenue, Kansas City, Missouri 64198-0001:

1. Glasnapp Family Limited Partnership I, Mission Hills, Kansas; to acquire voting shares of Bannister Bancshares, Inc., Kansas City, Missouri, and thereby indirectly acquire voting shares of Bannister Bank & Trust, Kansas City, Missouri.

Board of Governors of the Federal Reserve System, February 2, 2001.
Robert deV. Frierson
Associate Secretary of the Board.

[FR Doc. 01-3197 Filed 2-6-01; 8:45 am]

BILLING CODE 6210-01-M